INTERNATIONAL TRADE COMMISSION

[Investigation No. 337-TA-1261]

Notice of a Commission Determination To Issue Remedial Orders Against the Defaulting Respondents; Termination of the Investigation; Certain LED Landscape Lighting Devices and Components Thereof

AGENCY: U.S. International Trade Commission.

ACTION: Notice.

SUMMARY: Notice is hereby given that the U.S. International Trade Commission has determined to issue a limited exclusion order and cease and desist orders against the respondents found to be in default in this investigation, namely, cBright Lighting, Inc. of San Leandro, California (“cBright”), Dauer Manufacturing Corp. of Medley, Florida (“Dauer”), and FUSA Corp. of Medley, Florida (“FUSA”). The Commission has also determined to impose a bond equal to one hundred percent (100%) of the entered value of the infringing products imported during the period of Presidential review. This investigation is hereby terminated.

FOR FURTHER INFORMATION CONTACT: Ronald A. Traud, Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on April 13, 2021, based on a complaint filed on behalf of Wangs Alliance Corporation, d/b/a WAC Lighting (“WAC”). 86 FR 19282 (Apr. 13, 2021). The complaint alleged a violation of section 337 of the Tariff Act of 1930, as amended, 19 U.S.C. 1337, based upon the importation into the United States, the sale for importation, and the sale within the United States after importation of certain LED landscape lighting devices and components thereof by reason of infringement of certain claims of U.S. Patent Nos. 10,571,101 and 10,920,971. Id. The complaint further alleged that an industry in the United States exists as required by section 337. Id. The following were named as respondents in the investigation: cBright; Dauer; FUSA; Shenzhen Wanjia Lighting Co., Ltd.d/b/a WONKA of Shenzhen, China (“WONKA”); CAST Lighting LLC of Hawthorne, New Jersey (“CAST”); Lumien Enterprise, Inc. d/b/a Lumien Lighting of Acworth, Georgia (“Lumien”); and Jiangsu Sur Lighting Co., Ltd. of Jiangsu Province, China (“Jiangsu”). Id. The Office of Unfair Import Investigations is not a party to the investigation.

The Commission previously found cBright, Dauer, and FUSA (collectively, the “Defaulting Respondents”) in default. Order No. 13 (July 9, 2021) (finding cBright in default), unreviewed by Notice (July 29, 2021); Order No. 14 (Aug. 4, 2021) (finding Dauer and FUSA in default), unreviewed by Notice (Aug. 18, 2021). The investigation was previously terminated as to all other respondents. Order No. 20 (Sept. 10, 2021) (terminating the investigation as to Lumien and Jiangsu), unreviewed by Notice (Oct. 6, 2021); Order No. 22 (Sept. 24, 2021) (terminating the investigation as to CAST), unreviewed by Notice (Oct. 14, 2021); Order No. 23 (Sept. 24, 2021) (terminating the investigation as to WONKA), unreviewed by Notice (Oct. 26, 2021).

The Commission, in terminating the last active respondent from the investigation, also requested briefing on the issues of remedy, the public interest, and bonding. Notice (Oct. 26, 2021). On November 9, 2021, WAC filed a statement on remedy, public interest, and bonding. Neither the Defaulting Respondents nor any other interested person filed a response to either the Commission's original notice or the statement filed by WAC.

On October 5, 2021, WAC filed a Declaration Seeking Immediate Relief Against Defaulting Respondents.

Upon review of WAC's submission and based upon the request of the complainant, and in the absence of any responses from interested persons, the Commission has determined to issue a limited exclusion order and cease and desist orders against the Defaulting Respondents. The Commission finds that the public interest factors do not preclude issuance of the requested relief. The Commission has further determined to set a bond equal to one hundred percent (100%) of the entered value of the covered products. The Commission also denies as moot WAC's October 5, 2021, Declaration Seeking Immediate Relief Against Defaulting Respondents. This investigation is hereby terminated.

The Commission vote for this determination took place on January 6, 2022.

The authority for the Commission's determination is contained in Section 337 of the Tariff Act of 1930, as amended (19 U.S.C. 1337), and in part 210 of the Commission's Rules of Practice and Procedure (19 CFR part 210).

While temporary remote operating procedures are in place in response to COVID-19, the Office of the Secretary is not able to serve parties that have not retained counsel or otherwise provided a point of contact for electronic service. Accordingly, pursuant to Commission Rules 201.16(a) and 210.7(a)(1) (19 CFR 201.16(a), 210.7(a)(1)), the Commission orders that the Complainant(s) complete service for any party/parties without a method of electronic service noted on the attached Certificate of Service and shall file proof of service on the Electronic Document Information System (EDIS).

By order of the Commission.
Issued: January 6, 2022.
Lisa Barton,
Secretary to the Commission.

[FR Doc. 2022-00374 Filed 1-11-22; 8:45 am]

BILLING CODE 7020-02-P